DEPARTMENT OF STATE

[Public Notice: 5947]

Title: 30-Day Notice of Proposed Information Collection: Voluntary Disclosures; OMB Control Number 1405-XXXX

ACTION: Notice of request for public comment and submission to OMB of proposed collection of information.

SUMMARY: The Department of State has submitted the following information collection request to the Office of Management and Budget (OMB) for approval in accordance with the Paperwork Reduction Act of 1995.

• Title of Information Collection: Voluntary Disclosures.

• OMB Control Number: 1405-XXXX.

• Type of Request: Existing Collection in Use Without an OMB Control Number.

• Originating Office: Bureau of Political-Military Affairs, Directorate of Defense Trade Controls, PM/DDTC.

• Form Number: No Form.

• Respondents: Business organizations.

• Estimated Number of Respondents: 400.

• Estimated Number of Responses: 400.

• Average Hours per Response: 10 hours.

• Total Estimated Burden: 4,000 hours.

• Frequency: On Occasion.

• Obligation to Respond: Voluntary.

DATES: Submit comments to the Office of Management and Budget (OMB) for up to 30 days from September 27, 2007.

ADDRESSES: Direct comments and questions to Katherine Astrich, the Department of State Desk Officer in the Office of Information and Regulatory Affairs at the Office of Management and Budget, who may be reached at 202-395-4718. You may submit comments by any of the following methods:

• E-mail: Katherine_T._Astrich@omb.eop.gov. You must include the information collection title and OMB control number in the subject line of your message.

• Mail (paper, disk, or CD-ROM submissions) Office of Information and Regulatory Affairs, Office of Management and Budget, 725 17th Street, NW., Washington, DC 20503.

• Fax: 202-395-6974.

FOR FURTHER INFORMATION CONTACT: You may obtain copies of the proposed information collection and supporting documents from Patricia C. Slygh, PM/DDTC, SA-1, 12th Floor, Directorate of Defense Trade Controls, Bureau of Political-Military Affairs, U.S. Department of State, Washington, DC 20522-0112, who may be reached on (202) 663-2700 and E-mail: Slyghpc@state.gov.

SUPPLEMENTARY INFORMATION: We are soliciting public comments to permit the Department to:

• Evaluate whether the proposed collection of information is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Section 127.12 of the International Traffic in Arms Regulations (ITAR) encourages the disclosure of information to the Directorate of Defense Trade Controls when there has been a violation of the Arms Export Control Act (AECA), ITAR, order, license, or other authorization issued under the AECA. The violation is analyzed to determine the harm to the U.S. national security and foreign policy interests.

Methodology: Respondents may submit the information by letter using postal mail or a delivery service.

Dated: September 5, 2007.
Frank J. Ruggiero,
Acting Deputy Assistant Secretary for Defense Trade Controls, Bureau of Political-Military Affairs, Department of State.

[FR Doc. E7-19101 Filed 9-26-07; 8:45 am]

BILLING CODE 4710-25-P